DEPARTMENT OF ENERGY

Federal Energy Regulatory Commission

Combined Notice of Filings #2

Take notice that the Commission received the following electric corporate filings:

Docket Numbers: EC17-23-000.

Applicants: Oncor Electric Delivery Company LLC, NextEra Energy, Inc., EFH Merger Co., LLC, WSS Acquisition Company, T & D Equity Acquisition, LLC.

Description: Joint Application for Approval of the Disposition of Jurisdictional Facilities Under Section 203 of the Federal Power Act of Oncor Electric Delivery Company LLC, et al.

Filed Date: 11/1/16.

Accession Number: 20161101-5258.

Comments Due: 5 p.m. ET 11/22/16.

Docket Numbers: EC17-24-000.

Applicants: Cimarron Bend Wind Project I, LLC, Cimarron Bend Assets, LLC.

Description: Joint Application for Authorization Under Section 203 of the Federal Power Act, Request for Expedited Consideration and Confidential Treatment for Cimarron Bend Wind Project I, LLC and Cimarron Bend Assets, LLC.

Filed Date: 11/2/16.

Accession Number: 20161102-5123.

Comments Due: 5 p.m. ET 11/23/16.

Docket Numbers: EC17-25-000.

Applicants: Oncor Electric Delivery Company LLC, NextEra Energy, Inc., EFH Merger Co., LLC,,WSS Acquisition Company, T & D Equity Acquisition, LLC.

Description: Application for Authorization Under Section 203 of the Federal Power Act, Request for Expedited Consideration and Confidential Treatment for Lindahl Wind Project, LLC.

Filed Date: 11/2/16.

Accession Number: 20161102-5126.

Comments Due: 5 p.m. ET 11/23/16.

Take notice that the Commission received the following electric rate filings:

Docket Numbers: ER16-2304-001.

Applicants: Duke Energy Florida, LLC.

Description: Report Filing: Refund Report for Unfiled GIAs to be effective N/A.

Filed Date: 11/2/16.

Accession Number: 20161102-5140.

Comments Due: 5 p.m. ET 11/23/16.

Docket Numbers: ER16-2602-001.

Applicants: 4C Acquisition, LLC.

Description: Tariff Amendment: Supplement to Application for Market-Based Rate Authorization of 4C Acquisition to be effective 11/17/2016.

Filed Date: 11/2/16.

Accession Number: 20161102-5142.

Comments Due: 5 p.m. ET 11/23/16.

Docket Numbers: ER17-168-001.

Applicants: Applied Energy LLC.

Description: Tariff Amendment: Supplement to Market-Based Rate Application to be effective 12/24/2016.

Filed Date: 11/2/16.

Accession Number: 20161102-5128.

Comments Due: 5 p.m. ET 11/23/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 2, 2016.
Nathaniel J. Davis, Sr.,
Deputy Secretary.

[FR Doc. 2016-26988 Filed 11-8-16; 8:45 am]

BILLING CODE 6717-01-P